DEPARTMENT OF ENERGY

Federal Energy Regulatory Commission

[Project No. 12661-001; Project No. 13599-000]

Green Power Development, LLC; Alaska Power & Telephone Company; Notice of Competing Preliminary Permit Applications Accepted for Filing and Soliciting Comment, Motions To Intervene, and Competing Applications

October 23, 2009.

On October 1, 2009, at 8:01 a.m. 12:01 p.m., respectively, Alaska Power & Telephone Company (AP&T) and Green Power Development, LLC (Green Power) filed preliminary permit applications, pursuant to section 4(f) of the Federal Power Act, proposing to study the feasibility of the 3160 Water Power Project and Lace Hydroelectric Project, respectively, to be located on an unnamed lake designated by the applicants as Lake 3160 in an unorganized Borough near Juneau, Alaska. The project would be located within the Tongass National Forest. The sole purpose of a preliminary permit, if issued, is to grant the permit holder priority to file a license application during the permit term. A preliminary permit does not authorize the permit holder to perform any land disturbing activities or otherwise enter upon lands or waters owned by others without the owners' express permission.

AP&T's proposed 3160 Water Power Project would consist of: (1) A new siphon intake, directional bore, or a 20-foot-high timber buttress dam with either intakes at the exit of the Lake 3160; (2) an existing reservoir, Lake 3160, with surface area of 384 acres, storage capacity of 7,600 acre-feet, and normal water surface elevation of 3,160 feet mean sea level (msl); (3) a new 7,600-foot-long, 21-inch diameter penstock; (4) a new powerhouse containing 1-2 generating units with a total installed capacity of 4.9 megawatts (MW); (5) an open channel tailrace discharging flows to Evelyn Lake; (6) a 6-mile-long, 14.4 kilovolt (kV) overhead, or 24.9 kV underground transmission line; and (7) appurtenant facilities. The proposed 3160 Water Power Project would have an average annual generation of 34.1 gigawatt-hours (GWh).

Green Power's proposed Lace Hydroelectric Project would consist of: (1) A new siphon intake, directional bore, or 20-foot-high concrete dam with either intakes at the exit of Lake 3160; (2) an existing reservoir, Lake 3160, with a surface areas of 451 acres, storage capacity of 19,710 acre-feet, and normal water surface elevation of 3,160 feet msl; (3) a new above ground 8,800-feet-long, 22- to 24-inch-diameter penstock; (4) a new powerhouse containing 1-2 generating units with a total installed capacity of 4.995 MW; (5) an open channel tailrace discharging flows to Evelyn Lake; (6) a 7.6-mile-long, 14.4/24.9-kV overhead, underground, or submarine cable transmission line; and (7) appurtenant facilities. The annual production would be 40.1 GWh.

Applicants' Contact:

Mr. Robert Grimm, Alaska Power & Telephone Company, P.O. Box 3222, Port Townsend, WA 98368. (360) 385-1733x120.

Mr. Earle Ausman, Green Power Development, LLC, 1503 W. 33rd Avenue, Suite 211A, Anchorage, AK 99503. (907) 258-2420.

FERC Contact: Gina Krump, gina.krump@ferc.gov, (202) 502-6704.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-12661-001, or P-13599-000) in the docket number field to access the document. For assistance, contact FERC Online Support.

Kimberly D. Bose,
Secretary.

[FR Doc. E9-26239 Filed 10-30-09; 8:45 am]

BILLING CODE 6717-01-P